FEDERAL COMMUNICATIONS COMMISSION

47 CFR Part 64

[CG Docket No. 02-278, CC Docket No. 92-90, FCC 02-250]

Rules and Regulations Implementing the Telephone Consumer Protection Act (TCPA) of 1991

AGENCY: Federal Communications Commission.

ACTION: Final rule.

SUMMARY: In this document, the Commission announces that it will terminate and close CC Docket No. 92-90. On September 12, 2002, the Commission adopted a Notice of Proposed Rulemaking (NPRM) on its rules implementing the Telephone Consumer Protection Act of 1991 (TCPA). The NPRM seeks comment on whether the Commission's rules governing unsolicited advertising using the telephone and facsimile machine need to be revised in order to more effectively carry out Congress's directives in the TCPA. The Commission will close and terminate CC Docket No. 92-90 and open a new docket to address the issues raised in this proceeding.

DATES: Effective October 8, 2002.

FOR FURTHER INFORMATION CONTACT: Erica H. McMahon or Richard D. Smith at 202-418-2512, Consumer & Governmental Affairs Bureau.

SUPPLEMENTARY INFORMATION: On September 12, 2002, the Commission adopted an NPRM and Memorandum Opinion and Order in CG Docket No. 02-278 and CC Docket No. 92-90, FCC 02-250. In the NPRM, the Commission seeks comment on whether to revise, clarify or adopt any additional rules pursuant to the TCPA on the use of telephone and facsimile machines to deliver unsolicited advertisements. The Commission also seeks comment on whether to reconsider the option of establishing a national do-not-call list. In the Memorandum Opinion and Order, the Commission notes that the telemarketing marketplace has undergone significant changes. In addition, the Commission has received thousands of complaints from consumers who allege violations of the TCPA and our rules and orders. Based on these complaints, the changes in the way telemarketing is conducted, and our decision to revisit the option of establishing a national do-not-call list, it is clear that the focus of this proceeding has changed significantly from when the 1997 TCPA Reconsideration Order (62 FR 19686, April 23, 1997) was released. Therefore, the Commission announces that it will close and terminate CC Docket No. 92-90 and open a new docket to address the issues raised in this proceeding. Only pending Petitions and Requests for Clarification from CC Docket 92-90 will be incorporated into the instant proceeding. The full text of this document is available on the Commission's website Electronic Comment Filing System and for public inspection during regular business hours in the FCC Reference Center, Room CY-A257, 445 12th Street, SW, Washington, DC 20554.

List of Subjects in 47 CFR Part 64

Telephone.

Federal Communications Commission.
Marlene H. Dortch,
Secretary.

[FR Doc. 02-25568 Filed 10-7-02; 8:45 am]

BILLING CODE 6712-01-P